FEDERAL COMMUNICATIONS COMMISSION

47 CFR Part 73

[DA 01-560; MM Docket No. 99-326; RM-9755, RM-9910]

Radio Broadcasting Services; Bowling Green, Bardstown, Lebanon Junction, and Auburn, KY; and Byrdstown, TN

AGENCY: Federal Communications Commission.

ACTION: Final rule.

SUMMARY: The Commission, at the request of WRUS, Inc., substitutes Channel 244C2 for Channel 244A at Bowling Green, Kentucky, reallots Channel 244C2 from Bowling Green to Auburn, Kentucky, and modifies Station WBVR-FM's license accordingly. To accommodate the reallotment, we also (a) substitute Channel 255A for vacant Channel 244A at Byrdstown, Tennessee; and (b) substitute Channel 297A for Channel 244A at Bardstown, Kentucky, reallot Channel 297A from Bardstown to Lebanon Junction, Kentucky, and modify Station WOKH(FM)'s license accordingly (RM-9910). At the request of WRUS, Inc., we dismiss the petition to substitute Channel 244C3 for Channel 244A at Bowling Green, Kentucky (RM-9755). See 64 FR 67535, December 2, 1999. Channel 244C2 can be reallotted to Auburn in compliance with the Commission's minimum distance separation requirements with a site restriction of 30.9 kilometers (19.2 miles) northeast at petitioner's requested site. The coordinates for Channel 244C2 at Auburn are 37-02-29 North Latitude and 86-26-36 West Longitude. See SUPPLEMENTARY INFORMATION, infra.

DATES: Effective April 16, 2001.

FOR FURTHER INFORMATION CONTACT: Sharon P. McDonald, Mass Media Bureau, (202) 418-2180.

SUPPLEMENTARY INFORMATION: This is a synopsis of the Commission's Report and Order, MM Docket No. 99-326, adopted February 21, 2001, and released March 2, 2001. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

Additionally, Channel 255A can be substituted for vacant Channel 244A at Byrdstown in compliance with the Commission's minimum distance separation requirements with a site restriction of 13.1 kilometers (8.2 miles) southeast at petitioner's requested site. The coordinates for Channel 255A at Byrdstown are 36-30-23 North Latitude and 85-00-32 West Longitude. Channel 297A can be reallotted to Lebanon Junction in compliance with the Commission's minimum distance separation requirement with a site restriction of 13.6 kilometers (8.5 miles) southeast at petitioner's requested site. The coordinates for Channel 297A at Lebanon Junction are 37-47-00 North Latitude and 85-35-28 West Longitude.

On November 24, 1993, Station WBVR-FM filed an application (File No. BPH-931124IE) to downgrade to Channel 244A, which was granted on April 1, 1994. The FM Table of Allotments erroneously still reflects Channel 244C3 at Bowling Green, Kentucky.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Kentucky, is amended by removing Channel 244C3 at Bowling Green and by adding Auburn, Channel 244C2; by removing Channel 244A at Bardstown and by adding Lebanon Junction, Channel 297A.

3. Section 73.202(b), the Table of FM Allotments under Tennessee, is amended by removing Channel 244A at Byrdstown and adding Channel 255A at Byrdstown.

Federal Communications Commission.
John A. Karousos,
Chief, Allocations Branch, Policy and Rules Division, Mass Media Bureau.

[FR Doc. 01-6820 Filed 3-19-01; 8:45 am]

BILLING CODE 6712-01-U